DEPARTMENT OF ENERGY

Federal Energy Regulatory Commission

[Docket No. RP03-563-003]

Northern Border Pipeline Company; Notice of Compliance Filing

December 10, 2003.

Take notice that on December 4, 2003, Northern Border Pipeline Company (Northern Border) tendered for filing to become part of Northern Border's FERC Gas Tariff, First Revised Volume No. 1, the following tariff sheets to become effective January 5, 2004:

Substitute Fifth Revised Sheet No. 270

Original Sheet No. 270.01

Original Sheet No. 270.02

Northern Border states that this filing is made to comply with an order issued on September 10, 2003 in Docket No. RP03-563-000 wherein Northern Border was required to clarify its tariff with respect to procedures for bids and awards for available capacity.

Northern Border states that it is proposing to modify Subsections 26.2(a) and 26.2(b) of its tariff to clarify the criteria to be used for the bidding and awarding of capacity that will commence either (1) more than 90 days prior to the commencement of service date or (2) within 90 days or less prior to the commencement of service date.

Northern Border states that copies of this filing have been sent to all parties of record in this proceeding and to Northern Border's contracted shippers and interested state regulatory commissions.

Any person desiring to protest said filing should file a protest with the Federal Energy Regulatory Commission, 888 First Street, NE., Washington, DC 20426, in accordance with 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00580 Filed 12-16-03; 8:45 am]

BILLING CODE 6717-01-P